NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995, Public Law 104-13. This is the second notice for public comment; the first was published in the Federal Register at 75 FR 65527, and no comments were received. NSF is forwarding the proposed renewal submission to the Office of Management and Budget (OMB) for clearance simultaneously with the publication of this second notice. The full submission may be found at: http://www.reginfo.gov/public/do/PRAMain. Comments regarding (a) Whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725-17th Street, NW., Room 10235, Washington, DC 20503, and to Suzanne H. Plimpton, Reports Clearance Officer, National Science Foundation, 4201 Wilson Boulevard, Suite 295, Arlington, Virginia 22230 or send e-mail to splimpto@nsf.gov. Comments regarding this information collection are best assured of having their full effect if received within 30 days of this notification. Copies of the submission(s) may be obtained by calling 703-292-7556.

FOR FURTHER INFORMATION CONTACT: Suzanne H. Plimpton at (703) 292-7556 or send e-mail to splimpto@nsf.gov. Individuals who use a telecommunications device for the deaf (TDD) may call the Federal Information Relay Service (FIRS) at 1-800-877-8339 between 8 a.m. and 8 p.m., Eastern time, Monday through Friday.

NSF may not conduct or sponsor a collection of information unless the collection of information displays a currently valid OMB control number and the agency informs potential persons who are to respond to the collection of information that such persons are not required to respond to the collection of information unless it displays a currently valid OMB control number.

SUPPLEMENTARY INFORMATION: Title of Collection: Revitalizing Computing Pathways (CPATH) in Undergraduate Education Program Evaluation.

OMB Number: 3145-0211.

Type of Request: Revision to an existing collection.

Abstract: The CPATH program was established by the National Science Foundation's Computer & Information Science & Engineering (CISE) division with a vision towards preparing a U.S. workforce with the computing competencies and skills imperative to the Nation's health, security, and prosperity in the 21st century. This workforce includes a cadre of computing professionals prepared to contribute to sustained U.S. leadership in computing in a wide range of application domains and career fields, and a broader professional workforce with knowledge and understanding of critical computing concepts, methodologies, and techniques. To achieve this vision, CISE/CPATH is calling for colleges and universities to work together and with other stakeholders (industry, professional societies, and other types of organizations) to formulate and implement plans to revitalize undergraduate computing education in the United States. The full engagement of faculty and other individuals in CISE disciplines will be critical to success. Successful CPATH projects will be systemic in nature, address a broad range of issues, and have significant potential to contribute to the transformation and revitalization of undergraduate computing education on a national scale. The qualitative data collection of this program evaluation will document CPATH program strategies utilized in infusing computational thinking across different contexts and disciplines, examine the development of communities of practitioners and the dissemination of best practices around computational thinking, and analyze preliminary evidence for how the CPATH program is preparing students for career options in the STEM workforce. Five overarching evaluation questions will guide this program evaluation: (1) How is the CPATH program infusing computational thinking into a wide range of disciplines serving undergraduate education? (2) What is the evidence that university and community college departments and faculty are integrating computational thinking into their courses? (3) How are undergraduate students benefiting from participating in CPATH projects? (4) What is the evidence that the CPATH program is developing communities of practitioners that regularly share best practices across different contexts and disciplinary boundaries? (5) How is the CPATH program promoting sustainable multi-sector partnerships that represent a broad range of stakeholders (e.g., industry, higher education, K12) and contribute to workforce development that supports continued U.S. leadership in innovation? Answers to these questions are currently obtained using mixed evaluation methods including document analyses, site visit interviews, and telephone interviews with selected CPATH grant participants including principal investigators, staff, faculty, administrators, students, and external partners. This revision of the existing data collection activities will now include new protocols for interviewing faculty via phone, project evaluators, as well as edits to the previous protocols. Participation in CPATH program evaluation activities is a mandatory requirement for all CPATH awardees in accordance with the America Competes Act, H.R. 2272, and implementing directives.

Estimate of Burden: Public reporting burden for this collection of information is estimated to average 1.75 hours per response.

Respondents: Individuals.

Estimated Number of Responses per Form: 340.

Estimated Total Annual Burden on Respondents: 380 hours.

Frequency of Response: One time.

Dated: December 23, 2010.
Suzanne H. Plimpton,
Reports Clearance Officer, National Science Foundation.

[FR Doc. 2010-32846 Filed 12-29-10; 8:45 am]

BILLING CODE 7555-01-P